DEPARTMENT OF HOMELAND SECURITY

Federal Emergency Management Agency

44 CFR Part 67

[Docket No. FEMA-B-7794]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before October 14, 2008.

ADDRESSES: The corresponding preliminary Flood Insurance Rate Map (FIRM) for the proposed BFEs for each community are available for inspection at the community's map repository. The respective addresses are listed in the table below.

You may submit comments, identified by Docket No. FEMA-B-7794, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Pinellas County, Florida, and Incorporated Areas
Channel 1 | Approximately 160 feet downstream of 90th Avenue N | +12 | +11 | City of Pinellas Park, Unincorporated Areas of Pinellas County.
| Approximately 1,980 feet upstream of 102nd Avenue N | None | +14
Channel 2 | Approximately 290 feet upstream of Gandy Boulevard | None | +10 | City of Pinellas Park.
| Just downstream of Highway 19 | None | +12
Channel 3 | At 68th Avenue N | +9 | +10 | Unincorporated Areas of Pinellas County, City of Pinellas Park.
| Just downstream of 49th Street N | None | +17
Joe's Creek Tributary 4 (Channel 4) | Approximately 2,400 feet upstream of the confluence with Joe's Creek | +11 | +12 | City of Pinellas Park, Unincorporated Areas of Pinellas County.
| Approximately 1,000 feet upstream of 62nd Street N | None | +28
Lake Parcel | Flooding area bound by 96th Terrace N to the north, 34th Way N to the west, Gateway Boulevard to the south, and MCI Drive to the east | +10 | +9 | City of Pinellas Park.
| Flooding area bound by 97th Avenue N to the north, 37th Street N to the west, 93rd Avenue N to the south, and Mainlands Boulevard E to the east | +12 | +10
Lake Tamarac | Flooding area bound by Mainlands Boulevard N to the north, Mainlands Boulevard W to the west, 96th Terrace Lane N to the south, and 41st Street N to the east | +12 | +11 | City of Pinellas Park.
Ponding Area | Ponding area bound by 102nd Avenue N to the north, 64th Street N to the west, 98th Avenue N to the south, and 62nd Street N to the east | +13 | +14 | City of Pinellas Park.
| Ponding area bound by 99 Circle N to the north, 66th Street N to the west, 94th Avenue N to the south, and 61st Way N to the east | None | +13
| Ponding area bound by 94th Avenue N to the north, 66th Street N to the west, 90th Avenue N to the south, and 62nd Street N to the east | None | +13
| Ponding area bound by CSX Railroad to the north, 63rd Way N to the west, 82nd Avenue N to the south, and CSX Railroad to the east | None | +12
| Ponding area bound by 86th Avenue N to the north, CSX Railroad to the west, 82nd Avenue N to the south, and 62nd Street N to the east | None | +11
| Ponding area bound by 82nd Avenue N to the north, 63rd Street N to the west, 80th Avenue N to the south, and 61st Lane N to the east | None | +13
| Ponding area bound by 80th Avenue N to the north, 62nd Street N to the west, 78th Avenue N to the south, and 60th Street N to the east | None | +12
| Ponding area bound by 102nd Avenue N to the north, Highway 19 to the west, Highway 19 to the south, and 45th Way N to the east | +13 | +12
| Ponding area bound by Mainlands Boulevard N to the north, 41st Street N to the west, 96th Terrace N to the south, and 40th Street N to the east | +12 | +11
| Ponding area bound by Mainlands Boulevard W to the north, Highway 19 to the west, Gateway Boulevard to the south, and 40th Street N to the east | None | +11
| Ponding area bound by 86th Avenue N to the north, 44th Street N to the west, 78th Avenue N to the south, and Highway 19 to the east | +13 | +14
| Ponding area bound by Highway 19 to the north, 46th Street N to the west, 85th Terrace N to the south, and Highway 19 to the east | +13 | +11
| Ponding area bound by 94th Avenue N to the north, 49th Street N to the west, 86th Avenue N to the south, and Highway 19 to the east | +13 | +12
| Ponding area bound by 94th Avenue N to the north, 49th Street N to the west, 90th Avenue N to the south, and Highway 19 to the east | +13 | +12
| Ponding area bound by 82nd Avenue N to the north, 52nd Street N to the west, 78th Avenue N to the south, and 47th Street N to the east | +15 | +14
| Ponding area bound by 87th Terrace N to the north, 53rd Way N to the west, 82nd Terrace N to the south, and 52nd Way N to the east | +15 | +11
| Ponding area bound by 86th Avenue N to the north, 60th Street N to the west, 78th Avenue N to the south, and 52nd Street N to the east | +15 | +13
| Ponding area bound by 70th Avenue N to the north, 65th Street N to the west, 67th Avenue N to the south, and 63rd Way N to the east | None | +15
| Ponding area bound by 80th Avenue N to the north, 47th Street N to the west, Park Boulevard N to the south, and 40th Street N to the east | None | +15
| Ponding area bound by Park Boulevard N to the north, CSX Railroad to the west, 68th Avenue N to the south, and 41st Street N to the east | +18 | +16
| Ponding area bound by 76th Avenue N, 56th Street N to the west, 71st Avenue N to the south, and 52nd Street N to the east | None | +15
| Ponding area bound by 68th Avenue N to the north, 51st Way N to the west, 65th Avenue N to the south, and 49th Way N to the east | None | +15
| Ponding area bound by 66th Avenue N to the north, 47th Street N to the west, 58th Avenue N to the south, and 35th Street N to the east | +18 | +27
| Ponding area bound by Gateway Center Parkway to the north, 34th Street N to the west, Grand Avenue to the south, and 28th Street N to the east | +9 | +10
| Ponding area bound by Gateway Boulevard to the north, 37th Street to the west, Grand Avenue to the south, and Gateway Center Parkway to the east | None | +10
| Ponding area bound by Mainlands Boulevard N to the north, 40th Street N to the west, 99th Terrace N to the south, and 38th Way N to the east | +12 | +11
| Ponding area bound by 103rd Avenue N to the north, 39th Street N to the west, 101st Avenue N to the south, and 36th Court to the east | +12 | +10
| Ponding area bound by 99th Place N to the north, Mainlands Boulevard E to the west, 98th Terrace N to the south, and 34th Way N to the east | +11 | +10
Ponding Area | Ponding area bound by 62nd Avenue N to the north, 66th Street N to the west, 54th Avenue N to the south, and 54th Street N to the east | None | +14 | Unincorporated Areas of Pinellas County.
| Ponding area bound by 54th Avenue N to the north, 69th Way N to the west, 49th Avenue N to the south, and 68th Way N to the east | None | +15
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Pinellas Park
Maps are available for inspection at Pinellas Park City Hall, 5141 78th Avenue, Pinellas Park, FL 33781.
Unincorporated Areas of Pinellas County
Maps are available for inspection at Pinellas County Development Review, 310 Court Street, Clearwater, FL 33756.
Oconee County, Georgia, and Incorporated Areas
Calls Creek | Approximately 3,100 feet downstream of U.S. Highway 441/State Highway 15 | None | +612 | Unincorporated Areas of Oconee County, City of Watkinsville.
| At U.S. Highway 441/U.S. Highway 129 Bypasses/State Highway 24/186 | None | +669
Lampkin Branch | At confluence with Calls Creek | None | +637 | City of Watkinsville.
| Approximately 1,280 feet upstream of confluence with Calls Creek | None | +642
Porters Creek | At confluence with Oconee River | +526 | +527 | Unincorporated Areas of Oconee County.
| Approximately 550 feet upstream of confluence with Oconee River | +526 | +527
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Watkinsville
Maps are available for inspection at City Hall, 191 VFW Drive, Watkinsville, GA 30677.
Unincorporated Areas of Oconee County
Maps are available for inspection at Oconee County Planning Department, 22 North Main Street, Watkinsville, GA 30677.
Union County, Kentucky, and Incorporated Areas
Ohio River | At confluence with Tradewater River (At Union County / Crittenden County boundary) | None | +362 | Town of Uniontown, Unincorporated Areas of Union County.
| Approximately at 9.9 Miles upstream of confluence with Higland Creek (At Union County / Henderson County) | None | +371
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Uniontown
Maps are available for inspection at Third and Main Streets, Uniontown, KY 42461.
Unincorporated Areas of Union County
Maps are available for inspection at 100 West Main Street, Morganfield, KY 42437.
Wayne County, Kentucky, and Incorporated Areas
Lake Cumberland | At Wolfe Creek Dam | None | +760 | City of Monticello, Unincorporated Areas of Wayne County.
| Approximately at 7600 feet upstream Dugger Branch (North eastern county boundary) | None | +760
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Monticello
Maps are available for inspection at 157 South Main Street, Monticello, KY 42633.
Unincorporated Areas of Wayne County
Maps are available for inspection at 109 N. Main St., Monticello, KY 42633.
Caldwell County, North Carolina, and Incorporated Areas
Hayes Mill Creek | Approximately 1,500 feet upstream of the confluence with Catawba River | None | +1003 | Unincorporated Areas of Caldwell County, Town of Granite Falls, Town of Sawmills.
| Approximately 700 feet upstream of the confluence of Hayes Mill Creek Tributary 2 | None | +1120
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Granite Falls
Maps are available for inspection at Granite Falls Town Hall, 30 Park Square, Granite Falls, NC.
Town of Sawmills
Maps are available for inspection at Sawmills Town Hall, 4076 U.S. Highway 321A, Sawmills, NC.
Unincorporated Areas of Caldwell County
Maps are available for inspection at Caldwell County Courthouse, 1051 Harper Avenue, Lenoir, NC.
Wayne County, Ohio, and Incorporated Areas
Killbuck Ditch (backwater from Killbuck Creek) | Downstream of railroad crossing at Burbank Road | None | +967 | Unincorporated Areas of Wayne County, Village of Creston.
| Confluence with Killbuck Creek | None | +967
Unnamed Tributary (Backwater from Killbuck Creek) | Confluence with Killbuck Creek | None | +976 | Unincorporated Areas of Wayne County, Village of Creston.
| Upstream of S. Main Street in Village of Creston | None | +976
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Wayne County
Maps are available for inspection at 428 West Liberty Street, Wooster, OH 44691.
Village of Creston
Maps are available for inspection at 100 N Main Street, Creston, OH 44217.

(Catalog of Federal Domestic Assistance No. 97.022, “Flood Insurance.”)

Dated: July 8, 2008.
David I. Maurstad,
Federal Insurance Administrator of the National Flood Insurance Program, Department of Homeland Security, Federal Emergency Management Agency.

[FR Doc. E8-15982 Filed 7-11-08; 8:45 am]

BILLING CODE 9110-12-P